DEPARTMENT OF COMMERCE

National Oceanic and Atmospheric Administration

[RTID 0648-XB767]

Notice of Availability of the Deepwater Horizon Oil Spill Louisiana Trustee Implementation Group Draft Restoration Plan/Environmental Assessment #8: Wetlands, Coastal, and Nearshore Habitats

AGENCY: National Marine Fisheries Service (NMFS), National Oceanic and Atmospheric Administration (NOAA), Commerce.

ACTION: Notice of availability; request for comments.

SUMMARY: In accordance with the Oil Pollution Act of 1990 (OPA), the National Environmental Policy Act (NEPA), and a Consent Decree with BP Exploration & Production Inc. (BP), the Deepwater Horizon (DWH) Federal natural resource trustee agencies for the Louisiana Trustee Implementation Group (Louisiana TIG) have prepared a Draft Restoration Plan/Environmental Assessment #8: Wetlands, Coastal, and Nearshore Habitats (RP/EA #8). The Draft RP/EA #8 describes and proposes restoration project alternatives considered by the Louisiana TIG to partially restore natural resources and ecological services injured or lost as a result of the DWH oil spill. The Louisiana TIG evaluated these alternatives under criteria set forth in the OPA natural resource damage assessment (NRDA) regulations, and evaluated the environmental consequences of the restoration alternatives in accordance with NEPA. The purpose of this notice is to inform the public of the availability of the Draft RP/EA #8 and to seek public comments on the document.

DATES: The Louisiana TIG will consider public comments received on or before April 18, 2022.

Virtual Public Meeting: Due to continuing Covid-19 limitations on gatherings of groups, the Louisiana TIG will conduct a public webinar to facilitate public review and comment on Tuesday, April 5, 2022 at 12:00 p.m. Central. The public may register for the webinar at: https://attendee.gotowebinar.com/register/4964211858097860364. After registering, participants will receive a confirmation email with instructions for joining the public webinar. The webinar will include a presentation of the Draft RP/EA #8 and opportunity for public comment. The presentation slides will be posted on the web shortly after the public meeting is completed. Comments will also be taken through submission online or through U.S. mail (see Submitting Comments below).

ADDRESSES:

Obtaining Documents: You may access the Draft RP/EA #8 from the “News” section of the Louisiana TIG website at: http://www.gulfspillrestoration.noaa.gov/restoration-areas/louisiana. Alternatively, you may request a CD of the Draft RP/EA #8 (see FOR FURTHER INFORMATION CONTACT below).

Submitting Comments: You may submit comments on the Draft RP/EA #8 by one of the following methods:

• Via the Web: http://www.gulfspillrestoration.noaa.gov/restoration-areas/louisiana;

• Via U.S. Mail: U.S. Fish and Wildlife Service, P.O. Box 29649, Atlanta, GA 30345. Please note that mailed comments must be postmarked on or before the comment deadline given in DATES; or

• During the public webinar: Comments may be provided during the webinar. Webinar information is provided above in DATES.

Before including your address, phone number, email address, or other personal identifying information in your comment, you should be aware that your entire comment—including your personal identifying information—may be made publicly available at any time. While you can ask us in your comment to withhold your personal identifying information from public review, we cannot guarantee that we will be able to do so.

FOR FURTHER INFORMATION CONTACT: Mel Landry, NOAA Restoration Center, 310-427-8711, gulfspill.restoration@noaa.gov.

SUPPLEMENTARY INFORMATION:

Introduction

On April 20, 2010, the mobile offshore drilling unit Deepwater Horizon, which was being used to drill a well for BP Exploration and Production, Inc. (BP), in the Macondo prospect (Mississippi Canyon 252-MC252), experienced a significant explosion, fire, and subsequent sinking in the Gulf of Mexico, resulting in an unprecedented volume of oil and other discharges from the rig and from the wellhead on the seabed. The DWH oil spill is the largest off shore oil spill in U.S. history, discharging millions of barrels of oil over a period of 87 days. In addition, well over one million gallons of dispersants were applied to the waters of the spill area in an attempt to disperse the spilled oil. An undetermined amount of natural gas was also released into the environment as a result of the spill.

The DWH Federal and State natural resource trustees (DWH Trustees) conducted the natural resource damage assessment for the DWH oil spill under OPA (OPA; 33 U.S.C. 2701 et seq.). Pursuant to OPA, Federal and State agencies act as trustees on behalf of the public to assess natural resource injuries and losses and to determine the actions required to compensate the public for those injuries and losses. OPA further instructs the designated trustees to develop and implement a plan for the restoration, rehabilitation, replacement, or acquisition of the equivalent of the injured natural resources under their trusteeship, including the loss of use and services from those resources from the time of injury until the time of restoration to baseline (the resource quality and conditions that would exist if the spill had not occurred) is complete.

The DWH Trustees are:

• U.S. Department of the Interior (DOI), as represented by the National Park Service, U.S. Fish and Wildlife Service, and Bureau of Land Management;

• National Oceanic and Atmospheric Administration (NOAA), on behalf of the U.S. Department of Commerce;

• U.S. Department of Agriculture (USDA);

• U.S. Environmental Protection Agency (EPA);

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• State of Texas: Texas Parks and Wildlife Department, Texas General Land Office, and Texas Commission on Environmental Quality.

The Trustees reached and finalized a settlement of their natural resource damage claims with BP in an April 4, 2016, Consent Decree approved by the United States District Court for the Eastern District of Louisiana. Pursuant to that Consent Decree, restoration projects in the Louisiana Restoration Area are now selected and implemented by the Louisiana TIG. The Louisiana TIG is composed of the following Federal Trustees: NOAA; DOI; EPA; and USDA.

Background

The Draft RP/EA #8 is being released in accordance with OPA NRDA regulations at 15 CFR part 990, NEPA (42 U.S.C. 4321 et seq.), the Consent Decree, and the Final Programmatic Damage Assessment Restoration Plan/Programmatic Environmental Impact Statement (PDARP/PEIS), which provided for an overall goal of “Restore and Conserve Habitat.” This restoration planning activity is proceeding in accordance with the PDARP/PEIS, which provided for various types of restoration, including restoration of wetlands, coastal, and nearshore habitat. Information on the Restoration Type being considered in the Draft RP/EA #8, as well as the OPA criteria against which project ideas are being evaluated, can be viewed in the PDARP/PEIS (http://www.gulfspillrestoration.noaa.gov/restoration-planning/gulf-plan) and in the Overview of the PDARP/PEIS (http://www.gulfspillrestoration.noaa.gov/restoration-planning/gulf-plan).

Overview of the Louisiana TIG Draft RP/EA #8

For the Draft RP/EA #8, the Louisiana TIG assembled a list of 697 project alternatives for the restoration of wetlands, coastal, and nearshore habitat. These alternatives were based on proposals from the public as well as agencies, including projects submitted to the DWH Trustee or Louisiana TIG portals and projects submitted by individual state and Federal Trustees, including projects submitted on behalf of non-Trustee agencies. All alternatives underwent a step-wise screening process based on criteria established by OPA and the Louisiana TIG, whereby projects that did not meet the criteria were eliminated, and duplicative alternatives were combined. This resulted in six action alternatives for wetlands, coastal, and nearshore habitats, each of which are evaluated in the Draft RP/EA #8. Alternatives that meet the criteria but are not carried forward as preferred alternatives may be considered in future restoration plans.

Of the six alternatives evaluated, four are proposed as preferred alternatives for the restoration of wetlands, coastal, and nearshore habitats. Three of the alternatives evaluated consider projects for Engineering and Design (E&D), and three of the alternatives evaluated consider projects for full implementation. The alternatives analyzed include the following:

• Bayou Pointe-aux-Chenes Ridge Restoration and Marsh Creation (E&D)—Non-preferred, $4,736,900.

• New Orleans East Landbridge Restoration (E&D): Preferred, $4,000,000.

• Raccoon Island Barrier Island Restoration (E&D): Preferred, $8,200,000.

• Bayou Dularge Ridge and Marsh Restoration: Preferred, $41,400,000.

• Bayou La Loutre Ridge Restoration and Marsh Creation Project (PO-0178): Preferred, $21,200,000.

• Lake Lery Marsh Creation and Rim Restoration, Increment 3: Non-preferred, $19,420,000.

The Draft RP/EA #8 also evaluates a No Action Alternative, under which no project would be constructed and no additional costs would be incurred at this time.

The Louisiana TIG has examined the injuries assessed by the DWH Trustees and evaluated restoration alternatives to address the injuries. In Draft RP/EA #8, the Louisiana TIG presents to the public its draft plan for providing partial compensation to the public for injured natural resources and ecological services in the Louisiana Restoration Area. The proposed action is intended to continue the process of using DWH restoration funding to restore natural resources injured or lost as a result of the DWH oil spill. Additional restoration planning for the Louisiana Restoration Area will continue.

Next Steps

The public is encouraged to review and comment on the Draft RP/EA #8. A public webinar to facilitate the public review and comment process is scheduled for Tuesday, April 5 at 12:00 p.m. Central. After the public comment period ends, the Louisiana TIG will consider and address comments received before issuing a Final RP/EA #8. A summary of comments received and the Louisiana TIG's responses and any revisions to the document, as appropriate, will be included in the final document.

Additional Access to Materials

You may request a CD of the Draft RP/EA #8 (see FOR FURTHER INFORMATION CONTACT above). Copies of the Draft RP/EA #8 are also available during the public comment period at the following locations:

Library | Address | City | Zip code
St. Tammany Parish Library | 310 W. 21st Avenue | Covington | 70433
New Orleans Public Library, Louisiana Division | 219 Loyola Avenue | New Orleans | 70112
St. Bernard Parish Library | 1125 E. St. Bernard Highway | Chalmette | 70043
Plaquemines Parish Library | 8442 Highway 23 | Belle Chasse | 70037
Jefferson Parish Library, East Bank Regional Library | 4747 W. Napoleon Avenue | Metairie | 70001
Jefferson Parish Library, West Bank Regional Library | 2751 Manhattan Boulevard | Harvey | 70058
Terrebonne Parish Library | 151 Library Drive | Houma | 70360
Martha Sowell Utley Memorial Library | 314 St. Mary Street | Thibodaux | 70301
South Lafourche Public Library | 16241 E. Main Street | Cut Off | 70345
East Baton Rouge Parish Library | 7711 Goodwood Boulevard | Baton Rouge | 70806
Alex P. Allain Library | 206 Iberia Street | Franklin | 70538
St. Martin Parish Library | 201 Porter Street | St. Martinville | 70582
Iberia Parish Library | 445 E. Main Street | New Iberia | 70560
Vermilion Parish Library | 405 E. St. Victor Street | Abbeville | 70510
Mark Shirley, LSU AgCenter | 1105 West Port Street | Abbeville | 70510
Calcasieu Parish Public Library Central Branch | 301 W. Claude Street | Lake Charles | 70605

Translation Opportunities

Vietnamese translated materials including the Executing Summary and project fact sheets are posted in the “News” section of the Louisiana TIG's website: http://www.gulfspillrestoration.noaa.gov/restoration-areas/louisiana.

Administrative Record

The documents comprising the Administrative Record for the Draft RP/EA #8 can be viewed electronically at http://www.doi.gov/deepwaterhorizon/adminrecord.

Authority

The authority of this action is the Oil Pollution Act of 1990 (33 U.S.C. 2701 et seq.) and its implementing Oil Pollution Act Natural Resource Damage Assessment regulations found at 15 CFR part 990 and the National Environmental Policy Act of 1969 (42 U.S.C. 4321 et seq.).

Dated: March 11, 2022.
Carrie Diane Robinson,
Director, Office of Habitat Conservation, National Marine Fisheries Service.

[FR Doc. 2022-05553 Filed 3-17-22; 8:45 am]

BILLING CODE 3510-22-P